DEPARTMENT OF HEALTH AND HUMAN SERVICES

Centers for Disease Control and Prevention

Request for Nominations of Candidates To Serve on the Board of Scientific Counselors (BSC), Office of Public Health Preparedness and Response (OPHPR)

The CDC is soliciting nominations for possible membership on the Board of Scientific Counselors, Office of Public Health Preparedness and Response (BSC, OPHPR).

The BSC, OPHPR consists of 11 experts in the fields associated with public health preparedness and response. This board provides advice and guidance to the Secretary, Department of Health and Human Services (HHS), the Director, CDC, and the Director, OPHPR, concerning strategies and goals for the programs within the divisions; conducts peer-review of scientific programs; and monitors the overall strategic direction and focus of the divisions. The BSC, OPHPR may perform second-level peer review of applications for grants-in-aid for research and research training activities, cooperative agreements, and research contract proposals relating to the broad areas within the office. Nominations are being sought for individuals who have the expertise and qualifications necessary to contribute to accomplishment of the board's objectives. Nominees will be selected based on expertise in the fields relevant to the issues addressed by the divisions within the coordinating office, including: Business, crisis leadership, emergency response and management, engineering, epidemiology, health policy and management, informatics, laboratory science, medicine, mental and behavioral health, public health law, public health practice, risk communication, and social science. Federal employees will not be considered for membership. Members may be invited to serve for terms of up to four years.

The next cycle of selection of candidates will begin in the winter of 2015, for selection of potential nominees to replace members whose terms will end on September 30, 2015. Selection of members is based on candidates' qualifications to contribute to the accomplishment of OPHPR objectives (http://www.cdc.gov/phpr/science/counselors.htm). The U.S. Department of Health and Human Services policy stipulates that committee membership be balanced in terms of professional training and background, points of view represented, and the board's function. Consideration is given to a broad representation of geographic areas within the U.S., with equitable representation of gender, all ethnic and racial groups, and persons with disabilities. Candidates should submit the following items:

Current curriculum vitae, including complete contact information (telephone numbers, mailing address, email address)

At least one letter of recommendation from person(s) not employed by the U.S. Department of Health and Human Services.

The deadline for receipt of all application materials (for consideration for term beginning October 1, 2015) is January 16, 2015. All files must be submitted electronically as email attachments to: CDR Christye Brown, c/o BSC OPHPR Coordinator, email: cbrown12@cdc.gov.

The Director, Management Analysis and Services Office, has been delegated the authority to sign Federal Register notices pertaining to announcements of meetings and other committee management activities for both the Centers for Disease Control and Prevention and the Agency for Toxic Substances and Disease Registry.

Claudette Grant,
Acting Director, Management Analysis and Service Office, Centers for Disease Control and Prevention.

[FR Doc. 2014-25777 Filed 10-29-14; 8:45 am]

BILLING CODE 4163-18-P